DEPARTMENT OF EDUCATION

[RIN 1820 ZA18]

National Institute on Disability and Rehabilitation Research (NIDRR)

AGENCY: Office of Special Education and Rehabilitative Services, Department of Education.

ACTION: Notice of final priorities.

SUMMARY: The Assistant Secretary for Special Education and Rehabilitative Services (OSERS) announces final priorities for a Disability Demographics and Statistics Center, Community Integration Outcomes Centers, and Health and Function Centers under the Rehabilitation Research and Training Centers (RRTC) Program under the National Institute on Disability and Rehabilitation Research (NIDRR) for fiscal year (FY) 2003 and later years. We take these actions to focus research attention on areas of national need. We intend these priorities to improve the rehabilitation services and outcomes for individuals with disabilities.

EFFECTIVE DATE: These priorities are effective August 25, 2003.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Rehabilitation Research and Training Centers

We may make awards for up to 60 months through grants or cooperative agreements to public and private agencies and organizations, including institutions of higher education, Indian tribes, and tribal organizations, to conduct research, demonstration, and training activities regarding rehabilitation in order to enhance opportunities for meeting the needs of, and addressing the barriers confronted by, individuals with disabilities in all aspects of their lives. Each RRTC must be operated by or in collaboration with an institution of higher education or providers of rehabilitation or other appropriate services. RRTCs conduct coordinated and integrated advanced programs of research targeted toward the production of new knowledge to improve rehabilitation methodology and service delivery systems, alleviate or stabilize disability conditions, or promote maximum social and economic independence for persons with disabilities. Additional information on the RRTC program can be found at: http://www.ed.gov/officers/OSERS/NIDRR/Programs/res_program.html#RRTC.

General Requirements of Rehabilitation Research and Training Centers

RRTCs must:

• Carry out coordinated advanced programs of rehabilitation research;

• Provide training, including graduate, pre-service, and in-service training to help rehabilitation personnel more effectively provide rehabilitation services to individuals with disabilities;

• Provide technical assistance to individuals with disabilities, their representatives, providers, and other interested parties;

• Disseminate informational materials to individuals with disabilities, their representatives, providers, and other interested parties;

• Serve as centers for national excellence in rehabilitation research for individuals with disabilities, their representatives, providers, and other interested parties; and

• Involve individuals with disabilities and individuals from minority backgrounds as participants in research as well as training.

The Department is particularly interested in ensuring that the expenditure of public funds is justified by the execution of intended activities and the advancement of knowledge and, thus, has built this accountability into the selection criteria. Not later than three years after the establishment of any RRTC, NIDRR will conduct one or more reviews of the activities and achievements of the Center. In accordance with the provisions of 34 CFR 75.253(a), continued funding depends at all times on satisfactory performance and accomplishment.

Note: NIDRR supports the goals of President Bush's New Freedom Initiative (NFI). The NFI can be accessed on the Internet at the following site: http://www.whitehouse.gov/news/freedominitiative/freedominitiative.html.

The final priorities are in concert with NIDRR's Long-Range Plan (the Plan). The Plan is comprehensive and integrates many issues relating to disability and rehabilitation research topics. While applicants will find many sections throughout the Plan that support potential research to be conducted under these final priorities, a specific reference is included for the topics presented in this notice. The Plan can be accessed on the Internet at the following site: http://www.ed.gov/offices/OSERS/NIDRR/Products.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

We published a separate notice of each proposed priority (NPPs) in the Federal Register on May 9, 2003.

Priority 1—Disability Demographics and Statistics Center (84.133B-1) (68 FR 25004).

Priority 2—Community Integration Outcomes Centers (84.133B-5) (68 FR 25019).

Priority 3—Health and Function Centers(84.133B-7) (68 FR 25011).

We have combined these three priorities in this notice of final priorities (NFP).

Analysis of Comments and Changes

In response to our invitation in the NPPs, we received 269 comments.

We discuss these comments and changes in the Analysis of Comments and Changes section published as an appendix to this notice.

There are no significant differences between the NPPs and this NFP.

Note: This notice does not solicit applications. In any year in which we choose to use one or more of these priorities, we will do so through a notice in the Federal Register. A notice inviting applications for FY 2003 awards was published in the Federal Register on May 29, 2003 (68 FR 32023). When inviting applications we designate these priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Background

The background statements for the following priorities were published in the NPPs on May 9, 2003.

Priorities

Priority 1—Disability Demographics And Statistics Center

The Assistant Secretary will fund one RRTC on disability demographics and statistics. The purpose of this RRTC is to support rigorous collaborative research to generate new knowledge that advances evidence-based decision making to improve the lives of persons with disabilities. The references for this topic can be found in the Plan, chapter 2, Dimensions of Disability: Age, Gender, Education, Income, and Geography; chapter 7, Associated Disability Areas: Disabilty Statistics. The RRTC must:

(1) Conduct analyses using a variety of data sources, including those that assess facilitators and barriers to participation in society, to address the status and understanding of the population of individuals with disabilities;

(2) Identify, develop as necessary, and validate a series of best-practice approaches that facilitate the selection of appropriate measures, ensure a high degree of power and representativeness of the sample, and apply techniques of interviewing and data collection that lead to high levels of quality and relevance of information while minimizing the burden on respondents;

(3) Identify, develop as necessary, and evaluate instruments, data sources, administrative records, or other sources that allow Federal policymakers to use the International Classification of Functioning, Disability, and Health (ICF) classification system for evidence-based decisionmaking;

(4) Serve as a resource on disability statistics and demographics for Federal and other government agencies, policymakers, consumers, advocates, researchers, and others; and

(5) Develop quality standards to guide the identification of information for dissemination and conduct all activities to prepare, produce, and disseminate findings in a variety of media, such as web-based and print documents, meetings and conferences, and teleconferences that are targeted to the wide range of audiences who need such information.

In addition to the activities proposed by the applicant to carry out these purposes, the RRTC must:

• Conduct a state-of-the-science conference on its respective area of research in the third year of the grant cycle and publish a comprehensive report on the final outcomes of the conference in the fourth year of the grant cycle. This conference must include materials from experts internal and external to the center;

• Develop a systematic plan for widespread dissemination of informational materials based on knowledge gained from the Center's research activities, and disseminate the materials to persons with disabilities, their representatives, service providers, and other interested parties.

• Coordinate on research projects of mutual interest with relevant NIDRR-funded projects as identified through consultation with the NIDRR project officer;

• Involve individuals with disabilities in planning and implementing its research, training, and dissemination activities, and in evaluating the Center;

• Demonstrate in its application how it will address, in whole or in part, the needs of individuals with disabilities from minority backgrounds;

• Demonstrate how the RRTC project will yield measurable results for people with disabilities;

• Identify specific performance targets and propose outcome indicators, along with time lines to reach these targets; and

• Demonstrate how the RRTC project can transfer research findings to practical applications in planning, policy-making, program administration, and delivery of services to individuals with disabilities.

Priority 2—Community Integration Outcomes Centers

The Assistant Secretary will fund up to four RRTCs that will focus on improving the community integration outcomes of persons with disabilities. Each RRTC must:

(1) Identify, develop, and evaluate rehabilitation techniques to address its respective area of research and improve outcomes for its designated population group;

(2) Develop, implement, and evaluate a comprehensive plan for training critical stakeholders, e.g., consumers and their family members, practitioners, service providers, researchers, policymakers, and the community;

(3) Provide technical assistance to critical stakeholders, as appropriate, e.g., consumers and their family members, practitioners, service providers, and the community, to facilitate utilization of research findings in its respective area of research; and

(4) Develop a systematic plan for widespread dissemination of informational materials based on knowledge gained from the Center's research activities, and disseminate the materials to persons with disabilities, their representatives, service providers, and other interested parties.

In addition to the activities proposed by the applicant to carry out these purposes, each RRTC must:

• Conduct a state-of-the-science conference on its respective area of research in the third year of the grant cycle and publish a comprehensive report on the final outcomes of the conference in the fourth year of the grant cycle;

• Coordinate on research projects of mutual interest with relevant NIDRR-funded projects as identified through consultation with the NIDRR project officer;

• Involve individuals with disabilities in planning and implementing its research, training, and dissemination activities, and in evaluating the Center;

• Demonstrate in its application how it will address, in whole or in part, the needs of individuals with disabilities from minority backgrounds.

• Demonstrate how the project will yield measurable results for people with disabilities;

• Identify specific performance targets and propose outcome indicators, along with time lines to reach these targets; and

• Demonstrate how the project can transfer research findings to practical applications in planning, policy-making, program administration, and delivery of services to individuals with disabilities.

Each RRTC must focus on one of the following priorities.

(a) Community Integration for Individuals with Intellectual and Developmental Disabilities (I/DD): This Center must conduct qualitative and quantitative research, including the development and implementation of outcome measures, on factors that assist and hinder community integration, self-determination, training, employment, and independent living for persons with I/DD. The references for this topic can be found in the Plan, chapter 6, Independent Living and Community Integration: Independent Living and Community Integration Concepts; Expanding the Theoretical Framework; and Directions of Future Research on Independent Living and Community Integration.

(b) Promoting Healthy Aging and Community Inclusion Among Adults with Intellectual and Developmental Disabilities (I/DD): This Center must conduct epidemiological and community-based research, training, and dissemination activities regarding factors, such as aging, healthcare utilization, and caregiver characteristics, that assist and hinder community integration for adults with I/DD. The references for this topic can be found in the Plan, chapter 4, Health and Function: Research on Aging with a Disability; and chapter 6, Independent Living and Community Integration: Independent Living and Community Integration Concepts; Expanding the Theoretical Framework; and Directions of Future Research on Independent Living and Community Integration.

(c) Positive Behavioral Support in Community Settings: This Center must conduct research, training, and dissemination activities on positive behavioral support interventions that assist and sustain community integration efforts for a broad range of individuals with disabilities, including people with mental illness, over time and across systems. Dissemination and training efforts must target community partners, e.g., employers, teachers and coaches, and landlords, as well as individuals with disabilities and their families. The reference for this topic can be found in the Plan, chapter 6, Independent Living and Community Integration: Research on Increasing Personal Development and Adaptation.

(d) Policies Affecting Families of Children with Disabilities: This Center must research and disseminate information on the effects of government, system, network, and agency policies on community integration and quality of life for families who have children with disabilities. The Center also must validate instruments to measure these effects and provide technical assistance, with the goal of improving community integration and quality of life, by: (1) enhancing and coordinating policies among systems and (2) informing and empowering family and peer-based networks and partnerships. The references for this topic can be found in the Plan, chapter 2, Dimensions of Disability: Employment and Independent Living; and chapter 6, Research on Social Roles.

(e) Community Integration for People with Psychiatric Disabilities: This Center must research, disseminate, and provide training on factors, policies, and interventions, such as peer-support models and other innovative treatment approaches, that assist community integration for people with psychiatric disabilities. The target population may include individuals from any age group. The references for this topic can be found in the Plan, chapter 6, Independent Living and Community Integration: Independent Living and Community Integration Concepts; Expanding the Theoretical Framework; and Directions of Future Research on Independent Living and Community Integration.

(f) Substance Abuse: This Center must conduct research, disseminate information, and provide training on community-based interventions, partnerships, and service delivery models that improve community integration outcomes for people with disabilities who are recovering from substance abuse problems. The target population may or may not include individuals with co-occurring disorders such as mental illness. The reference for this topic can be found in the Plan, chapter 2, Dimensions of Disability: Emerging Universe of Disability.

Priority 3—Health and Function

The Assistant Secretary will fund up to seven RRTCs that will focus on rehabilitation to improve the health and function of persons with disabilities and thus to improve their ability to live in the community. Each RRTC must:

(1) Identify, develop, and evaluate rehabilitation techniques to address its respective area of research and improve outcomes for its designated population group;

(2) Develop, implement, and evaluate a comprehensive plan for training critical stakeholders, e.g., consumers/family members, practitioners, service providers, researchers, and policymakers;

(3) Provide technical assistance, as appropriate, to critical stakeholders, (e.g., consumers/family members, practitioners, and service providers) to facilitate utilization of research findings in its respective area of research; and

(4) Develop a systematic plan for widespread dissemination of informational materials based on knowledge gained from the Center's research activities, and disseminate the materials to persons with disabilities, their representatives, service providers, and other interested parties.

In addition to the activities proposed by the applicant to carry out these purposes, each RRTC must:

• Conduct a state-of-the-science conference on its respective area of research in the third year of the grant cycle and publish a comprehensive report on the final outcomes of the conference in the fourth year of the grant cycle. This conference must include materials from experts internal and external to the center;

• Coordinate on research projects of mutual interest with relevant NIDRR-funded projects as identified through consultation with the NIDRR project officer;

• Involve individuals with disabilities in planning and implementing its research, training, and dissemination activities, and in evaluating the Center;

• Demonstrate in its application how it will address, in whole or in part, the needs of individuals with disabilities from minority backgrounds; and

• Demonstrate how the RRTC project will yield measurable results for people with disabilities;

• Identify specific performance targets and propose outcome indicators, along with time lines to reach these targets; and

• Demonstrate how the RRTC project can transfer research findings to practical applications in planning, policy-making, program administration, and delivery of services to individuals with disabilities.

Each RRTC must focus on one of the following priority topic areas:

(a) Psycho-social Factors Affecting Individuals Aging with Disability: This Center must conduct research and training activities that generate new knowledge regarding the psycho-social issues that affect individuals aging with disabilities and the sources of resilience used by this population to cope with or respond to these issues. In an effort to improve long-term outcomes for these individuals, the Center is encouraged to identify or develop and test the effectiveness of interventions that will prevent or minimize the impact of psycho-social issues on the health, activity, and community participation of individuals with disabilities across the life span and promote positive adjustment and improved quality of life. The reference for this topic can be found in the Plan, chapter 4, Health and Function: Research on Aging with a Disability.

(b) Secondary Conditions in Rehabilitation of Individuals with Spinal Cord Injury (SCI): In an effort to improve the general health, well-being, and community integration of individuals with SCI, this Center must conduct research and training activities to enhance knowledge regarding either treatment or prevention strategies, or both, that addresses the wide array of secondary conditions associated with SCI, including, but not limited to, respiratory complications, urinary tract infections, pressure ulcers, pain, obesity, and depression. The reference for this topic can be found in the Plan, chapter 4, Health and Function: Research on Secondary Conditions.

(c) Community Integration of Individuals With Traumatic Brain Injury (TBI): This Center must identify, assess, and evaluate current and emerging community integration needs of individuals with TBI, including but not limited to mild TBI. The Center should consider the impact of secondary conditions on community integration outcomes as well as the role of assistive devices and other technology. In addition, this Center must develop and evaluate a comprehensive plan to facilitate the translation of new knowledge into rehabilitation practice and the delivery of community-based services. The reference for this topic can be found in the Plan, chapter 4, Health and Function: Research on Trauma Rehabilitation.

(d) Rehabilitation of Individuals with Neuromuscular Diseases: This Center must conduct research that addresses rehabilitation needs, particularly related to exercise, nutrition, and pain, of individuals with neuromuscular diseases. In doing this, the Center must identify or develop and evaluate health promotion and wellness programs to enhance recreational opportunities for individuals with neuromuscular diseases. This Center must identify, develop as appropriate, and evaluate devices and other technology that improve employment and community integration outcomes for this population of individuals with disabilities. The reference for this topic can be found in the Plan, chapter 4, Health and Function: Research on Progressive and Degenerative Disease Rehabilitation.

(e) Rehabilitation of Stroke Survivors: This Center must conduct research to develop rehabilitation interventions that improve rehabilitation, employment, and community integration outcomes of stroke survivors, including young stroke survivors. Such interventions may include robotics, complementary alternative therapies, and universal design methodologies aimed at improving the utility of workplace tools and devices. This Center must explore the cost-effectiveness of stroke rehabilitation treatments, such as group model approaches. The reference for this topic can be found in the Plan, chapter 4, Health and Function: Research on Trauma Rehabilitation.

(f) Rehabilitation of Individuals with Arthritis: This Center must address national goals to reduce pain and disability, improve physical fitness and quality of life, and promote independent living and community integration for persons with arthritis of all ages in the United States. This Center must research the benefits of exercise and physical fitness; home and community-based self-management programs; and technologies available to the broad populations of persons with arthritis in the environments where they live, learn, work, and play. The reference for this topic can be found in the Plan, chapter 4, Health and Function: Research on Progressive and Degenerative Disease Rehabilitation.

(g) Rehabilitation of Children with Traumatic Brain Injury (TBI): This Center must identify, assess, and evaluate current and emerging rehabilitation needs for children and adolescents with TBI. In doing this, the Center must document patterns of recovery, determining the effectiveness of current outcome measures for this population. Of particular interest will be evaluation of interventions and technologies, including specialized support services, to assist families and caregivers with transition to the school and the community. This RRTC must identify or develop effective rehabilitation strategies to improve outcomes for children and adolescents with TBI at all stages of rehabilitation. The reference for this topic can be found in the Plan, chapter 4, Health and Function: Research on Trauma Rehabilitation.

(h) Rehabilitation of Individuals with Multiple Sclerosis (MS): This Center must conduct research to maximize the participation of people with MS, including those with all levels of symptoms associated with the disease, at home, in the community, and while working or learning. In doing so, the Center must identify, develop as necessary, and evaluate interventions to enhance the independence of people with MS. Those interventions must include strategies and programs that address interactions among cognitive, psychosocial, sensory, mobility, and other manifestations of the disease across the lifespan. The Center must consider the role of assistive and universally designed technologies, strategic goals, and financial planning for persons with MS, and the role of caregivers throughout the disease course. The reference for this topic can be found in the Plan, chapter 4, Health and Function: Research on Progressive and Degenerative Disease Rehabilitation.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The potential cost associated with these final priorities is minimal while the benefits are significant. Grantees may anticipate costs associated with completing the application process in terms of staff time, copying, and mailing or delivery. The use of e-Application technology reduces mailing and copying costs significantly.

The benefits of the RRTC program have been well established over the years given that similar projects have been successfully completed. These final priorities will generate new knowledge through research, dissemination, utilization, training, and technical assistance projects.

The benefit of these final priorities and proposed applications and project requirements will be the establishment of new RRTCs that generate, disseminate, and promote the use of new information that will improve the options for disabled individuals to perform regular activities in the community.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number: 84.133B, Rehabilitation Research and Training Center Program)

Program Authority: 29 U.S.C. 762(g) and 764(b)(2).

Dated: July 22, 2003.
Robert H. Pasternack,
Assistant Secretary for Special Education and Rehabilitative Services.

Appendix

Analysis of Comments and Changes

General

Comment: Several commenters raised concerns about the failure of the priorities to require a focus on the Native American population, citing the high rates of disability within this population.

Discussion: Nothing in the priorities precludes an applicant from focusing on the needs of Native Americans. The peer review process will evaluate the merits of the proposal.

Changes: None.

Disability Demographics and Statistics Center

Comment: One commenter expressed concern that the Disability Demographics and Statistics Center priority does not specifically target analyses focused on the status of individuals who are American Indian or Alaskan Native.

Discussion: Nothing in the priority precludes an applicant from including these populations in proposed research. However, NIDRR has no basis for requiring that all applicants focus on these populations in responding to these priorities. The peer review process will evaluate the merits of the proposal.

Changes: None.

Community Integration

General

Comment: Several commenters suggested that NIDRR increase the number of funded centers under these competitions.

Discussion: The proposed number of funded centers is not part of the proposed priorities and is not subject to comment.

Changes: None.

Comment: Several commenters expressed concern about NIDRR's plan to publish the Notice Inviting Application (NIA) prior to the end of the comment period, effectively shortening the time from publication of the proposed priority to the due date for the applications.

Discussion: NIDRR announced in the NIA that, if it received comments that resulted in changes to the priorities, an extension would be granted to allow for more time to respond in light of such changes. NIDRR believes that a period of 60 days from the date of the NIA to the due date of the proposal is adequate time to prepare a proposal in response to the priorities.

Changes: None.

Comment: Many commenters expressed concern that NIDRR was “forcing different disability groups” to compete against each other for funds.

Discussion: The proposed grouping of NIDRR competitions is not part of the proposed priorities and is not subject to comment. However, NIDRR offers the following observation. NIDRR has previously conducted successful competitions in which it listed more topics than it could fund. This approach will provide NIDRR with peer review input to guide decisions about funding worthy topics. This grouping is intended to foster competition to improve research outcomes and have a positive impact on the lives of individuals with disabilities.

Changes: None.

Comment: Many commenters expressed concern that NIDRR's priorities do not provide sufficient opportunities for applicants that are concerned with psychiatric disability.

Discussion: The announcement includes a proposed new priority topic on the Community Integration of Individuals with Psychiatric Disabilities. In addition to this opportunity, NIDRR's commitment to the area of psychiatric disability is demonstrated by its current funding of five RRTCs on issues of psychiatric disability and mental health. In addition, NIDRR funds a number of field-initiated projects that focus on this topic as well as an advanced research training project and a Disability Rehabilitation Research Project (DRRP) on mental health service delivery. NIDRR's commitment to this critical area has not changed, and NIDRR is committed to supporting future initiatives in this area.

Changes: None.

Comment: One commenter suggested that the definition of “critical stakeholders,” in the list of requirements for each RRTC, be revised to include the word “community”—and noted that the realization of true community integration must include the community itself.

Discussion: NIDRR agrees that community members are critical components of community integration for individuals with disabilities and that they should be included in training and technical assistance efforts.

Changes: The priority has been changed to reflect this addition.

Comment: One commenter suggested that programs measuring Presidential, Congressional, and Judicial objectives regarding community inclusion be included in RRTC activities, by means of national and state data collection activities.

Discussion: NIDRR agrees that data collection to assist the measurement of community inclusion-related national objectives would be worthwhile, and applicants may submit applications in this area. However, NIDRR has no basis for requiring applicants to focus on this issue. The peer review process will evaluate the merits of the proposal.

Changes: None.

Psychiatric Disability

Comment: One commenter expressed concern that the description of the proposed RRTC on Community Integration for People with Psychiatric Disabilities is not age-specific but instead indicates that, “the target population may include individuals from any age group.” The commenter noted that children and adults, while having some overlapping areas, also have distinct age-specific needs.

Discussion: NIDRR agrees that children and adults have many distinct age-specific needs. The language in the proposed priority was not a suggestion (or requirement) that the applicant address issues of both. Rather, it was intended to allow flexibility for applicants in selecting their target populations. The peer review process will evaluate the merits of the proposal.

Changes: None.

Substance Abuse

Comment: Several commenters urged NIDRR to co-fund research activities with the Substance Abuse and Mental Health Services Administration (SMHSA), National Institute on Alcohol Abuse and Alcoholism (NIAAA), and National Institute on Drug Abuse (NIDA) in the area of substance abuse and co-existing disabilities.

Discussion: While co-funding of research in the area of substance abuse may have merit, this is not a subject for comment relative to the priority.

Changes: None.

Comment: Many commenters suggested that the unique needs of persons with disabilities who have co-occurring substance abuse disorders be addressed exclusively.

Discussion: The priority is clear that the target population is people with disabilities who are recovering from substance abuse problems. The priority also states that the applicants may or may not focus on individuals with co-occuring disorders such as mental illness. However, NIDDR has no basis to determine that all applicants should be required to focus on the unique needs of persons with disabilities who have co-occurring disorders such as mental illness. The peer review process will evaluate the merits of the proposal.

Changes: None.

Comment: Several commenters encouraged substance abuse research that is policy oriented at Federal and State levels.

Discussion: Nothing in the priority precludes an applicant from focusing on policy issues at the Federal and State level. However, NIDRR has no basis to determine that all applicants should be required to focus on policy issues. The peer review process will evaluate the merits of the proposal.

Changes: None.

Comment: One commenter suggested that the substance abuse priority require research on approaches for modifying treatment modalities to support the integration of patients with co-existing disabilities into community-based treatment programs rather than emphasize specialized programs. The commenter further suggested that the priority focus on employment outcomes, including retention.

Discussion: The priority does not preclude research focusing on either treatment modalities or employment outcomes for persons with disabilities who have substance abuse disorders. However, NIDRR has no basis to require that all applicants focus on these topics. The peer review process will evaluate the merits of the proposal.

Changes: None.

Comment: Two commenters suggested the priority require research in cross-training of program staff and community-based staff involved in providing services to individuals with disabilities who have substance abuse problems.

Discussion: The priority requires an applicant to provide training that improves community-integration outcomes for person with disabilities who are recovering from substance abuse problems. The applicant has the discretion to identify the specific target populations to be trained and the manner in which they will be trained. However, NIDRR has no basis to require all applicants to conduct cross-training of staff. The peer review process will evaluate the merits of the proposal.

Changes: None.

Health and Function

General

Comment: One commenter expressed concern that the Health and Function priorities do not specifically target the health needs of individuals with disabilities who are American Indian or Alaskan Native.

Discussion: NIDRR is aware of the critical health care issues facing American Indians and Alaskan Natives with disabilities. Nothing in the priority precludes an applicant from including these populations in proposed research. However, NIDRR has no basis for requiring that all applicants focus on these populations in responding to these priorities. The peer review process will evaluate the merits of the proposal.

Changes: None.

Comment: One commenter suggested adding Parkinson's Disease to the list of possible RRTC topics or expanding the neuromuscular disease priority to include Parkinson's Disease.

Discussion: Parkinson's Disease is often categorized as a neuromuscular disease. Nothing in the priority precludes an applicant from proposing Parkinson's Disease as a topic under the neuromuscular disease category. The peer review process will evaluate the merits of the proposal.

Changes: None.

[FR Doc. 03-19018 Filed 7-24-03; 8:45 am]

BILLING CODE 4000-01-P